DEPARTMENT OF THE INTERIOR

National Park Service

[NPS-NER-FIIS-21587; PX.XDESCPP02001]

Abbreviated Final Environmental Impact Statement for the Fire Island National Seashore General Management Plan

AGENCY: National Park Service, Interior.

ACTION: Notice of availability.

SUMMARY: The National Park Service (NPS) announces the availability of the Abbreviated Final General Management Plan/Environmental Impact Statement (Abbreviated Final GMP/EIS) for Fire Island National Seashore, New York. The focus of this plan is to guide and direct NPS management strategies for the next 15 to 20 years that support the protection of important natural resources and processes; significant recreation resources; cultural resources of national, state, and local significance; and unique residential communities. The Abbreviated Final GMP/EIS also includes revisions to the Draft Wilderness Stewardship Plan and Backcountry Camping Policy for the Otis Pike Fire Island High Dune Wilderness (WSP) which will guide decisions regarding the future use and protection of the congressionally designated Otis Pike Fire Island High Dune Wilderness and areas adjacent to the wilderness that are designated backcountry camping areas.

DATES: October 18, 2016.

ADDRESSES: The Abbreviated Final GMP/EIS and WSP are available electronically at http://www.parkplanning.nps.gov/fiis. A limited number of printed copies will be available upon request by contacting the Superintendent, Fire Island National Seashore, 120 Laurel Street, Patchogue, NY 11772-3596, 631-687-4770.

FOR FURTHER INFORMATION CONTACT: Kaetlyn Jackson, Fire Island National Seashore, 631-687-4770, kaetlyn_jackson@nps.gov.

SUPPLEMENTARY INFORMATION: Fire Island National Seashore (the Seashore), a unit of the national park system, is located along the south shore of Long Island in Suffolk County, New York. The Seashore is composed of two distinct units: A 26-mile stretch of Fire Island, the 32-mile-long barrier island that runs parallel to the south shore of Long Island; and the William Floyd Estate, situated on the south shore of Long Island near the east end of Fire Island. The Fire Island unit encompasses 19,579 acres of upland, tidal, and submerged lands, including an extensive system of dunes, centuries-old maritime forests, solitary beaches, nearly 1,400 acres of federally designated wilderness, and the historic Fire Island Lighthouse. The William Floyd Estate is a 613-acre property that was the home of one of New York's signers of the Declaration of Independence.

Pursuant to the National Environmental Policy Act of 1969 (42 U.S.C. 4321 et seq.), the NPS released a Draft General Management Plan/Environmental Impact Statement (Draft GMP/EIS) on June 15, 2015 for a 90-day public review period. The Draft GMP/EIS evaluated two sets of alternatives to address the specific needs of these two distinct units. One set addresses park-wide alternatives for the Seashore with a primary emphasis on the barrier island and includes a no-action alternative and two action alternatives. The other set of alternatives focuses specifically on the William Floyd Estate and includes a no-action alternative and a single action alternative.

Comments received on the Draft GMP/EIS resulted in minor changes to the text but did not significantly alter the alternatives or the impact analysis; thus, the National Park Service has prepared an Abbreviated Final General Management Plan/Environmental Impact Statement (Abbreviated Final GMP/EIS). The Abbreviated Final GMP/EIS discusses the public and agency comments received on the Draft GMP/EIS and provides NPS responses. The Abbreviated Final GMP/EIS contains errata sheets that show factual corrections to the text of the Draft GMP/EIS or where the text has been revised to reflect minor additions or changes suggested by commenters.

As in the Draft GMP/EIS, the Abbreviated Final GMP/EIS identifies the NPS Preferred Alternative as the combination of Management Alternative 3 for Fire Island & Park-wide with Management Alternative B for the William Floyd Estate because together they best meet the Seashore's management goals and convey the greatest number of significant beneficial results, relative to their potential impacts, in comparison with the other alternatives. Management Alternative 3 in combination with Management Alternative B would do the most to ensure the cooperative stewardship of Fire Island National Seashore's dynamic coastal environment and its cultural and natural systems while recognizing its larger ecological, social, economic, and cultural context and meeting the specific needs and management goals of the William Floyd Estate.

Circulated with the Draft GMP/EIS for public review was the Draft Wilderness Stewardship Plan and Backcountry Camping Policy for the Otis Pike Fire Island High Dune Wilderness (WSP). The purpose of the WSP is to guide decisions regarding the future use and protection of the congressionally designated Otis Pike Fire Island High Dune Wilderness and adjacent areas that are designated backcountry camping areas. It identifies the core qualities of wilderness character and outlines the framework through which the wilderness can be preserved, consistent with law, policy, and the specific legislative history applicable to this wilderness. The Abbreviated Final GMP/EIS contains errata sheets that show changes and clarifications to the Draft WSP. Some of the changes are a result of public comments while others are editorial in nature. When finalized, the WSP will replace the 1983 Wilderness Management Plan and the 2011 Fire Island National Seashore Interim Backcountry Camping Policy.

Dated: October 11, 2016.
Michael, A. Caldwell,
Regional Director, Northeast Region, National Park Service.

[FR Doc. 2016-25176 Filed 10-17-16; 8:45 am]

BILLING CODE 4312-52-P